OFFICE OF PERSONNEL MANAGEMENT

Submission for OMB Review; Comment Request for Review of a Revised Information Collection; RI 25-7

AGENCY: Office of Personnel Management.

ACTION: Notice

SUMMARY: In accordance with the paperwork Reduction Act of 1995 (Pub. L. 104-13, May 22, 1995), this notice announces that the Office of Personnel Management (OPM) has submitted to the Office of Management and budget (OMB) a request for review of a revised information collection. RI 25-7, Martial Status Certification Survey, is used to determine whether windows, widowers, and former spouses receiving survivor annuities from OPM have remarried before reaching age 55 and, thus, are no longer eligible for benefits.

Approximately 2,500 RI 25-7 forms are completed annually. The form takes approximately 15 minutes to complete. The annual estimated burden in 625 hours.

For copies of this proposal, contact Mary Beth Smith-Toomey on (202) 606-8358, FAX (202) 418-3251 or via e-mail to mbtoomey@opm.gov. Please include a mailing address with your request.

Dates: Comments on this proposal should be received within 30 calendar days from the date of this publication.

Addresses: Send or deliver comments to—Pamela S. Israel, Chief, Operations Support Group, Retirement Services Program, Center for Retirement and Insurance Services, U.S. Office of Personnel Management, 1900 E Street, NW., Room 3349, Washington, DC 20415; and

Brenda Aguilar, OPM Desk Officer, Office of Information and Regulatory Affairs, Office of Management and Budget, New Executive Office Building, NW., Room 10235, Washington, DC 20503.

For Information Regarding Administrative Coordination Contact: Cyrus S. Benson, Team Leader, Publications Team, Support Group, (202) 606-0623.

Linda M. Springer,
Director.

[FR Doc. 06-3785 Filed 4-20-06; 8:45 am]

BILLING CODE 6325-38-M